DEPARTMENT OF COMMERCE

National Telecommunications and Information Administration

Submission for OMB Review; Comment Request

The Department of Commerce will submit to the Office of Management and Budget (OMB) for clearance the following proposal for collection of information under the provisions of the Paperwork Reduction Act (44 U.S.C. Chapter 35).

Agency: National Telecommunications and Information Administration.

Title: State and Local Implementation Grant Program 2.0 Closeout Documentation.

OMB Control Number: None.

Form Number(s): None.

Type of Request: Regular submission.

Number of Respondents: 46.

Average Hours per Response: 25.

Burden Hours: 1,150.

Needs and Uses: The Middle Class Tax Relief and Job Creation Act of 2012 (Act) (Pub. L. 112-96, H.R. 3630, 126 Stat. 156) was enacted February 22, 2012.¹ The Act meets a long-standing national priority and critical infrastructure need to create a single, interoperable, nationwide public safety broadband network (NPSBN) that allows law enforcement officers, fire fighters, emergency medical service professionals, and other public safety officials to effectively communicate with each other across agencies and jurisdictions. Public safety workers have been hindered in their ability to respond in a crisis due to incompatible communications networks and often outdated communications equipment.

¹ Middle Class Tax Relief and Job Creation Act of 2012, Public Law 112-96, 126 Stat. 156 (2012) (Act) (codified at 47 U.S.C. 1401 et seq.).

The Act established the First Responder Network Authority (FirstNet) as an independent authority within NTIA and authorizes it to take all actions necessary to ensure the design, construction, and operation of the NPSBN, based on a single, national network architecture.²

² 47 U.S.C. 1424, 1426(b)(1).

The Act also charged NTIA with establishing a grant program, the State and Local Implementation Grant Program (SLIGP), to assist State, regional, tribal, and local jurisdictions with identifying, planning, and implementing the most efficient and effective means to use and integrate the infrastructure, equipment, and other architecture associated with the NPSBN to satisfy the wireless broadband and data services needs of their jurisdictions.

In 2013, NTIA originally awarded $116.5 million in grant funds to 54 state and territorial recipients between July 2013 and June 2014. The original grants expired February 28, 2018, and many recipients spent less than expected, leaving leftover funds. NTIA leveraged excess funds of $33.3 million from the original SLIGP grants to make a second round of grant awards, SLIGP 2.0. The SLIGP 2.0 grants provide funding to assist State, regional, tribal, and local jurisdictions to engage effectively with FirstNet and provide it with information needed to continue with planning the NPSBN in an effective and timely manner, as required by the Act. NTIA will use the collection of information to monitor and evaluate how SLIGP 2.0 grant recipients are achieving the core purposes of the program established by the Act. The information collected in the closeout report will ensure that final data effectively assesses the success of SLIGP 2.0 recipients in implementing their project goals.

The publication of this notice allows NTIA to begin the process to request OMB approval to collect information under the provisions of the Paperwork Reduction Act (44 U.S.C. Chapter 35).

Affected Public: State, regional, local, and tribal government organizations.

Frequency: Once (at the end of the period of performance).

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-15809 Filed 7-24-19; 8:45 am]

BILLING CODE 3510-60-P